DEPARTMENT OF VETERANS AFFAIRS

Fund Availability Under the VA Homeless Providers Grant and Per Diem Program

AGENCY: Department of Veterans Affairs.

ACTION: Notice.

SUMMARY: The Department of Veterans Affairs is announcing the availability of funds for applications for assistance under the “Per Diem Only” component of VA's Homeless Providers Grant and Per Diem Program. This Notice contains information concerning the program, funding priorities, application process and amount of funding available.

DATES: An original completed and collated grant application (plus three completed collated copies) for assistance under the VA's Homeless Providers Grant and Per Diem Program must be received in the Grant and Per Diem Field Office, by 4 p.m. Eastern Time on April 4, 2007. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays or other delivery-related problems.

For a copy of the Application Package: Download directly from VA's Homeless Providers Grant and Per Diem Program webpage at: http://www.va.gov/homeless/page.cfm?pg=3 or call the Grant and Per Diem Program at (toll-free) 1-877-332-0334. In this package is information on Grants.gov submission should applicants so desire. For a document relating to the VA Homeless Providers Grant and Per Diem Program, see the Final Rule published in the Federal Register on September 26, 2003.

Submission of Application: An original completed and collated grant application (plus three copies) must be submitted to the following address: VA Homeless Providers Grant and Per Diem Field Office, 10770 N. 46th Street, Suite C-200, Tampa, FL 33617. Applications must be received in the Grant and Per Diem Field Office by the application deadline. This includes applications submitted through Grants.gov. Applications must arrive as a complete package. Materials arriving separately will not be included in the application package for consideration and may result in the application being rejected or not funded.

FOR FURTHER INFORMATION CONTACT: Dr. Guy Liedke, VA Homeless Providers Grant and Per Diem Program, Department of Veterans Affairs, 10770 N. 46th Street, Suite C-200, Tampa, FL 33617; (toll-free) 1-877-332-0334.

SUPPLEMENTARY INFORMATION: This Notice announces the availability of funds for assistance under VA's Homeless Providers Grant and Per Diem Program for eligible programs that have not previously applied for or received per diem in connection with a grant (see 38 CFR 61.1 through 61.82). Funding applied for under this Notice is authorized by Pub. L. 109-461, § 703, known as the Veterans Benefit, Health Care and Information Technology Act of 2006, codified at 38 U.S.C. 2011, 2012, 2061, 2064, and may be used for aid for supportive housing. Service Centers will not be funded in this NOFA. Funding will be in the form of per diem payments issued to eligible entities for the period beginning on July 1, 2007, and are subject to availability of funds and the recipients' compliance with 38 CFR 61.1 through 61.82. For eligibility criteria please refer to Final Rule published in the Federal Register on September 26, 2003, 38 CFC 61.30, 61.31, and 61.32.

As these “Per Diem Only” projects are currently serving homeless veterans, VA expects that it will take no longer than 90 days from the date of award for projects to be inspected and become operational for receiving per diem. Failure to meet the 90-day milestone may result in the grant being terminated.

Capital grant recipients who received capital grant funding under VA's Homeless Providers Grant and Per Diem Program in years 1994 through 2006 for acquisition, renovation or new construction should not respond to this NOFA. Per diem for those portions of their programs that were created with capital grant funds is requested in the capital grant application and paid at the time of capital grant project completion and inspection.

Previous “Per Diem Only” recipients that renewed their PDO grants in 2005 need not reapply. VA is pleased to issue this Notice of Fund Availability (NOFA) for the Homeless Providers Grant and Per Diem Program as part of the effort to end chronic homelessness among our nation's veterans. The Department expects to create 1000 beds under this NOFA.

Funding available under this NOFA is being offered to help offset the operating expenses of existing state and local governments, Indian Tribal governments, faith-based, and community-based organizations that are capable of providing supported housing and/or supportive service center services for homeless veterans. The District of Columbia, the Commonwealth of Puerto Rico, any territory or possession of the United States, may be considered eligible entities under the definition of “State” in the 38 CFR 61.1 Definitions. It should be noted that VA payment is limited to the applicant's cost of care per eligible veteran, minus other sources of payments to the applicant for furnishing services to homeless veterans up to the per-day rate VA pays for State Home Domiciliary care. Awardees will be required to support their request for per diem payment with adequate fiscal documentation as to program income and expenses.

Interested organizations should know that the vast majority of homeless veterans in this country suffer from mental illness or substance abuse disorders or are dually diagnosed with both mental illness and substance abuse disorders. In addition, many homeless veterans have serious medical problems. Collaboration with VA medical centers, VA community-based outpatient clinics or other health care providers is an important aspect of assuring that homeless veterans have access to appropriate health care services.

It is important to be aware that VA places great emphasis on responsibility and accountability. VA has procedures in place to monitor services provided to homeless veterans and outcomes associated with the services provided in grant and per diem-funded programs. VA is also implementing new procedures to further this effort. Applicants should be aware of the following:

All awardees that are conditionally selected in response to this NOFA must meet the Life Safety Code of the National Fire and Protection Association as it relates to their specific facility. VA will conduct an inspection prior to awardees being able to submit request for payment to ensure this requirement is met.

Each per diem-funded program will have a liaison appointed from a nearby VA medical facility to provide oversight and monitor services provided to homeless veterans in the per diem-funded program.

Monitoring will include at least an annual review of each per diem program's progress toward meeting internal goals and objectives in helping veterans attain housing stability, adequate income support, and self sufficiency as identified in each per diem program's original application. Monitoring will also include a review of the agency's income and expenses as they relate to this project to ensure per diem payment is accurate.

Each per diem-funded program will participate in VA's national program monitoring and evaluation system administered by VA's Northeast Program Evaluation Center (NEPEC). It is the intention of VA to develop specific performance targets with respect to housing for homeless veterans. NEPEC's monitoring procedures will be used to determine successful accomplishment of these housing outcomes for each per diem-funded program.

VA encourages all eligible and interested entities to review this NOFA and consider applying for funds to provide service for homeless veterans.

Authority: VA's Homeless Providers Grant and Per Diem Program is authorized by Pub. L. 109-461, § 703, known as the Veterans Benefit, Health Care and Information Technology Act of 2006, codified at 38 U.S.C. 2011, 2012, 2061, 2064. The program is implemented by the Final Rule codified at 38 CFR Part 61.0. The Final Rule was published in the Federal Register on September 26, 2003, the regulations can be found in their entirety in 38 CFR 61.0 through 61.82. Funds made available under this Notice are subject to the requirements of those regulations.

Allocation: Approximately $10 million annually is available for the per diem only award component of this program. This funding is subject to the availability of funds, and will be available so long as recipients meet the requirements of 38 CFR 61.1 through 61.82.

Funding Priorities: VA establishes the following funding priorities in order to bolster capacity for populations in areas that are underserved by the Homeless Providers Grant and Per Diem Program. Specifically, VA is seeking programs that are not necessarily women-specific, but in the course of daily operations serve women veterans with care of dependent children, and provide them with an opportunity to secure funding to offer services to this population. VA is not seeking to create large women-specific programs, rather small niche housing and services for this underserved population in both urban and rural areas.

Example: In the course of providing daily services a homeless provider serves 2-5 homeless veteran women with care of dependent children. This provider would create a small program that would supply appropriate housing and services to this population.

In this round of “Per Diem Only” funding, VA expects to award funding for approximately 1,000 community-based supported housing beds.

Funding priority 1. Those programs that are not necessarily women-specific, but in the course of daily operations serve women veterans with care of dependent children and will create a niche program to serve this population. The applicant must clearly demonstrate, in the need section of the application, the number of beds for the women veterans and the number of beds for their dependent children. With this in mind, applicants are reminded that VA may only pay per diem for the women veteran—not the dependent children. Based on the total number of beds expected to be funded in this round, approximately 150 of the 1,000 beds expected to be funded) from eligible entities whose projects will provide housing and services specifically to homeless women veterans, with care of dependent children will be selected as the first funding priority. Of those eligible entities in the first funding priority, that are legally fundable, the highest scoring applicants will be funded first, followed by the second highest scoring applicants, until enough projects totaling approximately 150 beds for women are identified for funding. Applicants not selected in this priority will be placed in the second funding priority. Should the projected 150 bed total not be reached, remaining beds and funding will be placed in the second funding priority.

Funding priority 2. Finally, VA is encouraging interested, state and local governments, Indian tribal governments, faith-based, and community-based organizations to apply for funding under this NOFA to serve all homeless veterans populations. Based on the total number of beds expected to be funded in this round, approximately 850 beds will be funded in this priority. Of those eligible entities that are legally fundable, the highest-ranked applications for which funding is available, will be selected for eligibility to receive per diem payment in accordance with their ranked order until enough projects totaling approximately 850 beds are identified for funding or until funding is expended.

Methodology: VA will review all non-capital grant recipients in response to this notice of funding availability. Then, VA will group the applicants into the funding priorities categories. Applicants will then be ranked within their respective funding category based on score and any ranking criteria set forth in that funding category, only if the applicant scores at least 500 cumulative points from paragraphs (b) (c) (d) (e) and (i) of 38 CFR 61.13.

The highest-ranked application for which funding is available, within the highest funding category, will be conditionally selected for eligibility to receive per diem payment in accordance with their ranked order until VA reaches the projected bed totals for each category. If funds are still available after selection of those applications in the highest priority group, VA will continue to conditionally select applicants in lower priority categories in accordance with the selection method set forth in the Interim Final Rule Sec. 61.32.

Application Requirements: The specific grant application requirements will be specified in the application package. The package includes all required forms and certifications. Selections will be made based on criteria described in the application, Interim Final Rule, and NOFA. Applicants who are selected will be notified of any additional information needed to confirm or clarify information provided in the application. Applicants will then be notified of the deadline to submit such information. If an applicant is unable to meet any conditions for grant award within the specified time frame, VA reserves the right to not award funds and to use the funds available for other grant and per diem applicants.

Dated: February 16, 2007.
R. James Nicholson,
Secretary of Veterans Affairs.

[FR Doc. E7-3024 Filed 2-21-07; 8:45 am]

BILLING CODE 8320-01-P